DEPARTMENT OF DEFENSE

GENERAL SERVICES ADMINISTRATION

NATIONAL AERONAUTICS AND SPACE ADMINISTRATION

[OMB Control No. 9000-0204; Docket 2023-0053; Sequence No. 6]

Submission for OMB Review; Acquisition 360 Voluntary Survey

AGENCY: Department of Defense (DOD), General Services Administration (GSA), and National Aeronautics and Space Administration (NASA).

ACTION: Notice.

SUMMARY: Under the provisions of the Paperwork Reduction Act, the Regulatory Secretariat Division has submitted to the Office of Management and Budget (OMB) a request to review and approve a preapproved information collection requirement regarding the Acquisition 360 Voluntary Survey.

DATES: Submit comments on or before September 21, 2023.

ADDRESSES: Written comments and recommendations for this information collection should be sent within 30 days of publication of this notice to www.reginfo.gov/public/do/PRAMain. Find this particular information collection by selecting “Currently under Review—Open for Public Comments” or by using the search function. Additionally, submit a copy to GSA through https://www.regulations.gov and follow the instructions on the site. This website provides the ability to type short comments directly into the comment field or attach a file for lengthier comments.

Instructions: All items submitted must cite OMB Control No. 9000-0204, Acquisition 360 Voluntary Survey. Comments received generally will be posted without change to https://www.regulations.gov, including any personal and/or business confidential information provided. To confirm receipt of your comment(s), please check www.regulations.gov, approximately two-to-three days after submission to verify posting. If there are difficulties submitting comments, contact the GSA Regulatory Secretariat Division at 202-501-4755 or GSARegSec@gsa.gov.

FOR FURTHER INFORMATION CONTACT: Ms. Zenaida Delgado, Procurement Analyst, at 202-969-7207, or zenaida.delgado@gsa.gov.

SUPPLEMENTARY INFORMATION:

A. OMB Control Number, Title, and any Associated Form(s)

9000-0204, Acquisition 360 Voluntary Survey.

B. Needs and Uses

This clearance covers the information that actual and potential offerors may submit in accordance with the following Federal Acquisition Regulation (FAR) requirement as stipulated in agency procedures:

FAR 52.201-01, Acquisition 360: Voluntary Survey. This provision encourages actual and potential offerors to provide the Government constructive feedback about the preaward and debriefing processes, as applicable, used for a specific acquisition using a Government-provided survey at https://www.acquisition.gov/360. Survey questions follows:

Actual/Potential Offeror Survey

Responses to these questions are not intended to identify you as a respondent, but to ensure we gain insight into various groups' views and satisfaction with the procurement process.

Did you submit an offer on this solicitation? Yes/No

Are you a small business? Yes/No/Don't Know

Select all that apply:

○ Small disadvantaged business

○ Women-owned small business

○ Service-disabled veteran-owned small business

○ Historically Underutilized Business Zone (HUBZone) small business

Have you used any of the following resources to assist in doing business with the government? Select all that apply:

○ SBA Procurement Center Representatives

○ Procurement Technical Assistance Centers (PTACs)

○ GSA Vendor Support Center

○ Agency Office of Small and Disadvantaged Business Utilization (OSDBU) or Office of Small Business Programs (OSBP)

Did you learn of this opportunity through outreach that helps attract new and/or more socio economically diverse vendors?

Yes/No

a. If Yes, the following options appear with a “Select all that apply” prompt.

• From an agency

• From a state or local government

• From a competitor

• From a partner organization

For the following questions pertaining to different aspects of the Presolicitation Phase, please rate your level of satisfaction from “Extremely Dissatisfied” to “Extremely Satisfied”. If the Presoliciation aspect does not apply, please select “Not Applicable”.

| Extremely satisfied | Moderately satisfied | Neither satisfied nor dissatisfied | Moderately dissatisfied | Extremely dissatisfied | Not applicable
Presolicitation Phase
How satisfied were you:
8. With the agency's vendor engagement methods (e.g., RFIs, RFQs, draft RFP, preaward conferences) in fostering early communication and exchange before submission of quotes or offers? | ○ | ○ | ○ | ○ | ○ | ○
9. That the exchange offered by any industry day(s) (or similar event) provided valuable information that improved your understanding of the agency's requirements? | ○ | ○ | ○ | ○ | ○ | ○
10. With the agency's understanding of the state of this marketplace? | ○ | ○ | ○ | ○ | ○ | ○
Solicitation Phase
How satisfied were you:
11. With the clarity of the requirements? | ○ | ○ | ○ | ○ | ○ | ○
12. That the agency kept offerors informed about any delays in the solicitation process (considering both the initial release and any subsequent delays), if applicable? | ○ | ○ | ○ | ○ | ○ | ○
13. That the solicitation included clear submission instructions that sufficiently guided offerors or respondents in preparing offers or responses to requests for information? | ○ | ○ | ○ | ○ | ○ | ○
14. That the solicitation included clear submission instructions that sufficiently guided offerors or respondents in preparing offers or responses to requests for information? | ○ | ○ | ○ | ○ | ○ | ○
15. That the Government chose an appropriate contract type based on the requirement and associated risks? | ○ | ○ | ○ | ○ | ○ | ○
16. That the Government chose an appropriate source selection methodology? | ○ | ○ | ○ | ○ | ○ | ○
17. That the agency answered questions regarding the solicitation in such a way that it helped you to prepare the offer? | ○ | ○ | ○ | ○ | ○ | ○
18. With the opportunity to propose unique and innovative solutions (e.g., the solicitation and evaluation criteria promoted innovation)? | ○ | ○ | ○ | ○ | ○ | ○
19. With the amount of time the agency gave to submit an offer? | ○ | ○ | ○ | ○ | ○ | ○
20. That the solicitation's evaluation methodology allowed for the best selection among competing offers? | ○ | ○ | ○ | ○ | ○ | ○
21. With the quality of the agency's debriefing (e.g., it allowed you to understand how to improve on similar efforts in the future)? | ○ | ○ | ○ | ○ | ○ | ○
Overall Satisfaction
22. How satisfied were you with your overall experience on this acquisition? | ○ | ○ | ○ | ○ | ○ | ○
| Strongly agree | Agree | Neutral | Disagree | Strongly disagree | Not applicable
23. This transaction increased my confidence in the acquisition process | ○ | ○ | ○ | ○ | ○ | ○
24. If given the opportunity, what would you change about the process to improve your experience? [Open Text Field]

The purpose of the Acquisition 360 Survey is to standardize the gathering of feedback regarding preaward and debriefing actions so that agencies can continually consider and improve their performance in early vendor engagement efforts and internal acquisition practices.

C. Common Form

This information collection is a common form. The General Services Administration is the sponsor agency of this common form. All executive agencies covered by the FAR will use this common form. Each executive agency will report their agency burden separately, and the reported information will be available at Reginfo.gov.

D. Annual Burden

General Services Administration

Respondents: 2,689.

Total Annual Responses: 2,689.

Total Burden Hours: 448.

E. Public Comment

A 60-day notice was published as a part of the notice of the proposed rulemaking for FAR case 2017-014 in the Federal Register at 85 FR 57177, on August 15, 2020. A respondent provided comments on a variety of issues on the proposed rule; one of the comments expressed support for this collection of information.

Comment: Regarding whether the collection of information will have practical utility, the commenter stated that if better communication aids in the proper performance of FAR functions, both the information and the initiative to promote voluntary feedback has merit. The commenter finds this collection to be a worthy time investment to facilitate effective communication that could prevent delays or errors due to miscommunication.

Response: Noted.

Obtaining Copies: Requesters may obtain a copy of the information collection documents from the GSA Regulatory Secretariat Division, by calling 202-501-4755 or emailing GSARegSec@gsa.gov. Please cite OMB Control No. 9000-0204, Acquisition 360 Voluntary Survey.

Janet Fry,
Director, Federal Acquisition Policy Division, Office of Governmentwide Acquisition Policy, Office of Acquisition Policy, Office of Governmentwide Policy.

[FR Doc. 2023-18005 Filed 8-21-23; 8:45 am]

BILLING CODE 6820-EP-P